DEPARTMENT OF HOMELAND SECURITY

Coast Guard

[USCG-2004-19665]

Towing Safety Advisory Committee

AGENCY: Coast Guard, DHS.

ACTION: Notice of meeting.

SUMMARY: The Towing Vessel Inspection Working Group of the Towing Safety Advisory Committee (TSAC) will meet to discuss matters relating to the inspection of towing vessels and safety management systems. The meetings will be open to the public.

DATES: The Towing Vessel Inspection Working Group will meet on Wednesday, December 8, 2004 from 1:30 p.m. to 4:30 p.m. and on Thursday, December 9, 2004 from 8:30 a.m. to 2 p.m. The meetings may close early if all business is finished. Written or electronic material and requests to make oral presentations should reach the Coast Guard on or before December 3, 2004. Requests to have a copy of your material distributed to each member of the Working Group should be in electronic form and reach the Coast Guard on or before December 3, 2004.

ADDRESSES: The Working Group will meet in the 7th Floor All-Hands Conference Room (#725), National Pollution Funds Center, 4200 Wilson Boulevard, Arlington, VA 22203. Please bring a government-issued ID with photo (e.g., driver's license). Send written or electronic material and requests to make oral presentations to Mr. Gerald Miante, Commandant (G-MSO-1), U.S. Coast Guard Headquarters, 2100 Second Street SW., Washington, DC 20593-0001. This notice and related documents are available on the Internet at http://dms.dot.gov under the docket number USCG-2004-19665.

FOR FURTHER INFORMATION CONTACT: Mr. Gerald Miante, Assistant Executive Director of TSAC, telephone 202-267-0214, fax 202-267-4570, or e-mail gmiante@comdt.uscg.mil.

SUPPLEMENTARY INFORMATION: Notice of these meetings is given under the Federal Advisory Committee Act, 5 U.S.C. App. 2 (Pub. L. 92-463, 86 Stat. 770, as amended).

Agenda of Working Group Meetings

The agenda for the Towing Industry Safety System Working Group tentatively includes the following items:

(1) Identify the elements that should be included in a safety management system (SMS) requirement for towing vessels.

(2) Identify a framework for Coast Guard oversight and enforcement of a towing vessel inspection program based on a SMS and consider the role of third parties in such a system.

(3) Identify whether any towing vessel should be exempt from coverage under an inspection program based on a SMS.

(4) Identify proposed regulations implementing an inspection program for towing vessels based on a SMS.

Procedural

The meetings are open to the public. Please note that the meetings may close early if all business is finished. At the Chair's discretion, members of the public may make oral presentations during the meeting. If you would like to make an oral presentation at the meeting, please notify the Assistant Executive Director (as provided above in FOR FURTHER INFORMATION CONTACT) no later than December 3, 2004. Written or electronic material for distribution at the meeting should reach the Coast Guard no later than December 3, 2004.

Information on Services for Individuals With Disabilities

For information on facilities or services for individuals with disabilities or to request special assistance at the meeting, contact Mr. Miante at the number listed in FOR FURTHER INFORMATION CONTACT as soon as possible.

Dated: November 15, 2004.
Joseph J. Angelo,
Director of Standards, Marine Safety, Security & Environmental Protection.

[FR Doc. 04-25759 Filed 11-19-04; 8:45 am]

BILLING CODE 4910-15-P